DEPARTMENT OF COMMERCE

National Oceanic and Atmosphere Administration

U.S. Coral Reef Task Force Public Meeting and Public Comment

AGENCY: National Ocean Service, NOAA, Department of Commerce.

ACTION: Notice of public meeting, Notice of public comment.

SUMMARY: Notice is hereby given of a public meeting of the U.S. Coral Reef Task Force. The meeting will be held in Washington DC. This meeting, the 15th bi-annual meeting of the U.S. Coral Reef Task Force, provides a forum for coordinated planning and action among Federal agencies, state and territorial governments, and nongovernmental partners. Please register in advance by visiting the Web site below. This meeting has time allotted for public comment and provides exhibit space. All public comment must be submitted in written format. A written summary of the meeting will be posted on the Web site within two months of its occurrence.

DATES: The meeting will be held on Thursday, May 4, 2006, 8:30-5:30. Advance public comments can be submitted to the e-mail, fax, or mailing address listed below from Monday, April 17, 2006-Friday, April 28, 2006.

Location: The meeting will be held at the Department of Commerce, located at 1401 Constitution Ave., NW., Washington, DC 20230.

FOR FURTHER INFORMATION CONTACT: Beth Dieveney, U.S. Coral Reef Task Force Coordinator, Coral Reef Conservation Program, 1305 East-West Highway, Silver Spring, Maryland 20910 (Phone: 301-713-2989 ext. 200, Fax: 301-713-4389, e-mail: Beth.Dieveney@noaa.gov, or visit the U.S. Coral Reef Task Force Web site at http://www.coralreef.gov)

SUPPLEMENTARY INFORMATION: Established by Presidential Executive Order 13089 in 1998, the U.S. Coral Reef Task Force mission is to lead, coordinate, and strengthen U.S. government actions to better preserve and protect coral reef ecosystems. Co-chaired by the Departments of Commerce and Interior, Task Force members include leaders of 12 Federal agencies, seven U.S. states and territories, and three freely associated states. For more information about the meeting, registering, exhibiting, and submitting public comment go to http://www.coralreef.gov.

Dated: March 3, 2006.
David Kennedy,
Manager, Coral Reef Conservation Program.

[FR Doc. 06-2322 Filed 3-9-06; 8:45 am]

BILLING CODE 3910-JE-M